DEPARTMENT OF EDUCATION

National Board for Education Sciences Meeting

AGENCY: Institute of Education Sciences, Department of Education.

ACTION: Notice of an open meeting.

SUMMARY: This notice sets forth the schedule and proposed agenda of an upcoming meeting of the National Board for Education Sciences. The notice also describes the functions of the Board. Notice of this meeting is required by Section 10(a)(2) of the Federal Advisory Committee Act and is intended to notify the public of their opportunity to attend the meeting.

DATES: March 23, 2011.

Time: 8:30 a.m. to 5 p.m.

ADDRESSES: 80 F Street, NW., Room 100, Washington, DC 20208.

FOR FURTHER INFORMATION CONTACT: Mary Grace Lucier, Designated Federal Official, National Board for Education Sciences, 555 New Jersey Ave., NW., Room 602 I, Washington, DC 20208; phone: (202) 219-2253; fax: (202) 219-1466; e-mail: Mary.Grace.Lucier@ed.gov.

SUPPLEMENTARY INFORMATION: The National Board for Education Sciences is authorized by Section 116 of the Education Sciences Reform Act of 2002 (ESRA), 20 U.S.C. 9516. The Board advises the Director of the Institute of Education Sciences (IES) on, among other things, the establishment of activities to be supported by the Institute, and on the funding for applications for grants, contracts, and cooperative agreements for research after the completion of peer review, and reviews and evaluates the work of the Institute.

At this time, the Board consists of ten of fifteen appointed members due to the expirations of the terms of former members. The Board shall meet and can carry out official business because the ESRA states that a majority of the voting members serving at the time of a meeting constitutes a quorum.

On March 23, 2011, starting at 8:30 a.m. the Board will approve the agenda and hear remarks from the chair, followed by the swearing in of new members. John Easton, IES director, and the commissioners of the national centers will give an overview of recent developments at IES. A break will take place from 11 a.m. to 11:15 a.m. The Board will then consider the topic, “How Can IES Research/Evaluation Increase the Likelihood of Identifying Interventions that Produce Important Positive Effects? How Can the Policy/Research Community Make Better Use of Well-Designed Studies Showing No Effects or Adverse Effects?” Rebecca Maynard, Commissioner of the National Center for Education Evaluation and Regional Assistance, will give opening remarks, followed by a roundtable discussion by NBES members.

The meeting will break for lunch from 1-2 p.m., which will be followed by ethics training for the members by Marcia Sprague of the Office of the General Counsel at the Department of Education.

At 2 p.m. the Board will address the topic, “Increasing the Effectiveness of Federal Education Programs through Development/Use of Rigorous Evidence About “What Works.” An afternoon break from 3:30 to 3:45 p.m. will precede a presentation of a new White House initiative, Advanced Research Projects Agency—Education (ARPA-Ed), designed to catalyze the development and deployment of new tools and technologies that could significantly improve student learning.

At 4:45 p.m. there will be closing remarks and a consideration of next steps from the IES Director and NBES Chair, with adjournment scheduled for 5 p.m.

A final agenda will be available from Mary Grace Lucier (see contact information above) on March 15 and will be posted on the Board Web site http://ies.ed.gov/director/board/agendas/index.asp.

Individuals who will need accommodations for a disability in order to attend the meeting (e.g., interpreting services, assistance listening devices, or materials in alternative format) should notify Mary Grace Lucier no later than March 15. We will attempt to meet requests for accommodations after this date but cannot guarantee their availability. The meeting site is accessible to individuals with disabilities.

Records are kept of all Board proceedings and are available for public inspection at 555 New Jersey Ave., NW., Room 602 K, Washington, DC 20208, from the hours of 9 a.m. to 5 p.m., Eastern Standard Time Monday through Friday.

Electronic Access to This Document: You may view this document, as well as all other documents of this Department published in the Federal Register, in text or Adobe Portable Document Format (PDF) on the Internet at the following site: http://www.ed.gov/news/fed-register/index.html.

To use PDF you must have Adobe Acrobat Reader, which is available free at this site. If you have questions about using PDF, call the U.S. Government Printing Office (GPO), toll free at 1-866-512-1800; or in the Washington, DC area at (202) 512-0000.

Note: The official version of this document is the document published in the Federal Register. Free Internet access to the official edition of the Federal Register and the Code of Federal Regulations is available on GPO Access at: http://www.gpoaccess.gov/nara/index.html.

John Q. Easton,
Director, Institute of Education Sciences.

[FR Doc. 2011-5239 Filed 3-7-11; 8:45 am]

BILLING CODE 4000-01-P